DEPARTMENT OF DEFENSE

Department of the Air Force

[Docket ID: USAF-2010-0010]

Privacy Act of 1974; System of Records

AGENCY: Department of the Air Force, DoD.

ACTION: Notice to delete four systems of records.

SUMMARY: The Department of the Air Force proposes to delete four systems of records notices from its existing inventory of record systems subject to the Privacy Act of 1974, (5 U.S.C. 552a), as amended.

DATES: This proposed action will be effective without further notice on May 10, 2010 unless comments are received which result in a contrary determination.

ADDRESSES: You may submit comments, identified by docket number and title, by any of the following methods:

* Federal Rulemaking Portal: http://www.regulations.gov. Follow the instructions for submitting comments.

* Mail: Federal Docket Management System Office, 1160 Defense Pentagon, Washington, DC 20301-1160.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mr. Charles Shedrick at (703) 696-6488.

SUPPLEMENTARY INFORMATION: The Office of the Secretary of Defense systems of records notices subject to the Privacy Act of 1974, (5 U.S.C. 552a), as amended, have been published in the Federal Register and are available from the Department of the Air Force, Freedom of Information/Privacy Division, U.S. Air Force Records Management and Declassification Agency, 1800 Air Force Pentagon, Washington, DC 20330-1800.

The Department of the Air Force proposes to delete four systems of records notices from its inventory of record systems subject to the Privacy Act of 1974 (5 U.S.C. 552a), as amended. The proposed deletion is not within the purview of subsection (r) of the Privacy Act of 1974, (5 U.S.C. 552a), as amended, which requires the submission of a new or altered system report.

Dated: April 5, 2010.
Mitchell S. Bryman,
Alternate OSD Federal Register Liaison Officer, Department of Defense.

Deletions:

F036 AMC A

Training Instructors (Academic Instructor Improvement/Evaluation) (June 11, 1997; 62 FR 31793).

Reason:

The 1550th Technical Training Squadron, Kirtland Air Force Base, NM no longer exits. Training now falls under the Air Education Training Command (AETC); all records have been transferred or deleted in accordance with the existing National Archives and Records Administration retention schedule.

F036 AMC B

Training Progress (Permanent Student Record) (June 11, 1997; 62 FR 31793).

Reason:

AMC no longer provides Noncommissioned Officer (NCO) Academy training. The NCO Academy Training now falls under the Air Education Training Command (AETC); all records have been transferred or deleted in accordance with the existing National Archives and Records Administration retention schedule.

F036 AMC C

Training Systems Research and Development Materials (June 11, 1997; 62 FR 31793).

Reason:

The 1550th Combat Crew Training Wing, Kirtland Air Force Base, NM, no longer exists. Training now falls under the Air Education Training Command (AETC); all records have been transferred or deleted in accordance with the existing National Archives and Records Administration retention schedule.

F036 AMC D

Air Crew Instruction Records (June 11, 1997; 62 FR 31793).

Reason:

The 1550th Combat Crew Training Wing, Kirtland Air Force Base, NM, no longer exists. Training now falls under the Air Education Training Command (AETC); all records have been transferred or deleted in accordance with the existing National Archives and Records Administration retention schedule.

[FR Doc. 2010-7962 Filed 4-7-10; 8:45 am]

BILLING CODE 5001-06-P